DEPARTMENT OF COMMERCE

International Trade Administration

[A-552-802]

[A-570-893]

Certain Frozen Warmwater Shrimp from the Socialist Republic of Vietnam and the People's Republic of China: Extension of Preliminary Results of Antidumping Duty Administrative Reviews

AGENCY: Import Administration, International Trade Administration, Department of Commerce.

SUMMARY: The Department of Commerce (“Department”) is extending the time limit for the preliminary results of the administrative reviews of certain frozen warmwater shrimp from the Socialist Republic of Vietnam (“Vietnam”) and the People's Republic of China (“PRC”). The reviews cover the period February 1, 2008, through January 31, 2009.

EFFECTIVE DATE: October 27, 2009.

FOR FURTHER INFORMATION CONTACT: Bobby Wong, Susan Pulongbarit, or Irene Gorelik, AD/CVD Operations, Office 9, Import Administration, International Trade Administration, U.S. Department of Commerce, 14th Street and Constitution Avenue, N.W., Washington, DC 20230; telephone: (202) 482-0409, (202) 482-4031, or (202) 482-482-6905, respectively.

SUPPLEMENTARY INFORMATION:

Background

On March 26, 2009, the Department published a notice of initiation of the administrative reviews of the antidumping duty orders on certain frozen shrimp from Vietnam and the PRC. See Notice of Initiation of Administrative Reviews and Requests for Revocation in Part of the Antidumping Duty Orders on Certain Frozen Warmwater Shrimp From the Socialist Republic of Vietnam and the People's Republic of China, 74 FR 13178 (March 26, 2009). The preliminary results of the reviews are currently due no later than October 31, 2009.

Statutory Time Limits

In antidumping duty administrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of these administrative reviews within the original time limit because the Department requires additional time to analyze questionnaire responses, issue supplemental questionnaires, conduct verification, and to evaluate surrogate value submissions for purposes of the preliminary results.

Therefore, the Department is extending the time limit for completion of the preliminary results of the administrative reviews by 120 days. The preliminary results will now be due no later than March 1, 2010, the first business day following 120 days from the current deadline. The final results continue to be due 120 days after the publication of the preliminary results.

We are issuing and publishing this notice in accordance with sections 751(a)(3)(A) and 777(i) of the Act.

Dated: October 20, 2009.
John M. Andersen,
Acting Deputy Assistant Secretary for Antidumping and Countervailing Duty Operations.

[FR Doc. E9-25856 Filed 10-26-09; 8:45 am]

BILLING CODE 3510-DS-S